DEPARTMENT OF ENERGY

Federal Energy Regulatory Commission

[Docket No. DI19-2-000]

Dyberry Creek Farm, LLC; Notice of Declaration of Intention and Soliciting Comments, Protests, and Motions To Intervene

Take notice that the following application has been filed with the Commission and is available for public inspection:

a. Application Type: Declaration of Intention.

b. Docket No: DI19-2-000.

c. Date Filed: July 31, 2019.

d. Applicant: Dyberry Creek Farm.

e. Name of Project: Dyberry Creek Farm Micro Hydro Project.

f. Location: The proposed Dyberry Creek Farm Micro Hydro Project would be located on an unnamed tributary of the West Branch of Dyberry Creek, near the borough of Honesdale, in Wayne County, Pennsylvania.

g. Filed Pursuant to: Section 23(b)(1) of the Federal Power Act, 16 U.S.C. 817(b) (2012).

h. Applicant Contact: Brian Paul Phillips, Dyberry Creek Farm, 86 Kilroe Road, Honesdale, PA, 18431; telephone: (646) 283-0570; email: bpaulphillips@gmail.com; Agent Contact: James F. Sanders, 417 Upper Woods Road, Honesdale, PA 18431, telephone: (570) 253-4032; email: jimandpatsanders@gmail.com.

i. FERC Contact: Any questions on this notice should be addressed to Andrea Claros, (202) 502-8171, or email: andrea.claros@ferc.gov.

j. Deadline for filing comments, protests, and motions to intervene is: 30 days from the issuance date of this notice by the Commission.

The Commission strongly encourages electronic filing. Please file comments, any comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number DI19-2-000.

k. Description of Project: The proposed run-of-river project would consist of: (1) An intake on an unnamed tributary of the West Branch of Dyberry Creek with a design head of 140 feet and a hydraulic capacity of 0.701 cubic feet per second; (2) a 700-foot-long penstock; (3) a 4-foot by 4-foot powerhouse containing a 3-kilowatt generating unit; (4) a 4-inch by 10-foot-long diameter outflow pipe returning water to the creek; (5) a breaker panel at the Dyberry Farm with a grid-tie into PPL Electric Utilities transmission line; and (6) appurtenant facilities. No dams or divisions would be built.

When a Declaration of Intention is filed with the Federal Energy Regulatory Commission, the Federal Power Act requires the Commission to investigate and determine if the project would affect the interests of interstate or foreign commerce. The Commission also determines whether or not the project: (1) Would be located on a navigable waterway; (2) would occupy public lands or reservations of the United States; (3) would utilize surplus water or water power from a government dam; or (4) would be located on a non-navigable stream over which Congress has Commerce Clause jurisdiction and would be constructed or enlarged after 1935.

l. Locations of the Application: This filing may be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call (866) 208-3676 or email FERCOnlineSupport@ferc.gov, for TTY, call (202) 502-8659. A copy is also available for inspection and reproduction at the address in item (h) above and in the Commission's Public Reference Room located at 888 First Street NE, Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must bear in all capital letters the title COMMENTS, PROTESTS, and MOTIONS TO INTERVENE, as applicable, and the Docket Number of the particular application to which the filing refers. A copy of any Motion to Intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: September 3, 2019.
Nathaniel J. Davis, Sr.,
Deputy Secretary.

[FR Doc. 2019-19429 Filed 9-6-19; 8:45 am]

BILLING CODE 6717-01-P